DEPARTMENT OF EDUCATION

Office of Special Education and Rehabilitative Services; Overview Information; Technology and Media Services for Individuals With Disabilities—National Center on Accessible Instructional Materials (AIM); Notice Inviting Applications for New Awards for Fiscal Year (FY) 2009

Catalog of Federal Domestic Assistance (CFDA) Number: 84.327T.

DATES: Applications Available: June 3, 2009.

Deadline for Transmittal of Applications: July 6, 2009.

Deadline for Intergovernmental Review: September 1, 2009.

Full Text of Announcement

I. Funding Opportunity Description

Purpose of Program: The purposes of the Technology and Media Services for Individuals with Disabilities program are to: (1) Improve results for children with disabilities by promoting the development, demonstration, and use of technology, (2) support educational media services activities designed to be of educational value in the classroom setting to children with disabilities, and (3) provide support for captioning and video description of educational materials that are appropriate for use in the classroom setting.

Priority: In accordance with 34 CFR 75.105(b)(2)(v), this priority is from allowable activities specified in the statute (see sections 674 and 681(d) of the Individuals with Disabilities Education Act (IDEA), 20 U.S.C. 1400 et seq.).

Absolute Priority: For FY 2009 and any subsequent year in which we make awards from the list of unfunded applicants from this competition, this priority is an absolute priority. Under 34 CFR 75.105(c)(3), we consider only applications that meet this priority.

This priority is:

Technology and Media Services for Individuals with Disabilities—National Center on Accessible Instructional Materials (AIM).

Background: IDEA requires that the individualized education program for each child with a disability be designed to enable the child to be involved in and make progress in the general education curriculum (20 U.S.C. 1414(d)(1)(A)(i)(II)(aa)). Some children with disabilities, however, experience a significant barrier to making progress in the general education curriculum because they cannot effectively utilize print instructional materials such as textbooks (Rose & Meyer, 2002; Rose, Meyer & Hitchcock, 2005; Stahl, 2007). For example, studies show that, for many children with disabilities, a neurologically based reading dysfunction limits their ability to read and learn from print instructional materials (Shaywitz, 1998; 2002; 2005; 2006).

The 2004 amendments to IDEA required the Secretary to establish the National Instructional Materials Accessibility Standard (NIMAS) and required States to adopt NIMAS for the purpose of providing instructional materials in specialized formats in a timely manner for use in elementary and secondary schools by children who are blind or who have print disabilities (20 U.S.C. 1412(a)(23)(A)). The 2004 amendments also established the National Instructional Materials Access Center (NIMAC) as a national repository to receive and store NIMAS source files and make them available to States.

State educational agencies (SEAs) and local educational agencies (LEAs) now obtain NIMAS file sets directly from publishers or from NIMAC and convert those files into specialized formats for use by students who need accessible instructional materials (AIM). The files obtained from NIMAC may only be used for children with disabilities who are eligible under IDEA and meet the definition of blind or other persons with print disabilities in the Act to Provide Books for the Adult Blind (2 U.S.C. 135a), which establishes eligibility criteria for individuals served by the Library of Congress (LOC) regulations (36 CFR 701.6(b)(1)). These eligibility criteria cover individuals who are blind, have other visual disabilities, are unable to read or use standard print as a result of physical limitations, or have reading disabilities resulting from organic dysfunction. The regulations implementing Part B of IDEA require SEAs and LEAs to ensure that children with disabilities who need instructional materials in accessible formats, but are not included under the LOC definition of blind or other persons with print disabilities or who need materials that cannot be produced from NIMAS files obtained through NIMAC, receive those instructional materials in a timely manner (34 CFR 300.172(b)(3) and 300.210(b)(3)).

The Office of Special Education Programs (OSEP) funded the NIMAS TA Center (http://www.nimas.cast.org) in September 2004 to support the implementation of NIMAS-related requirements and to provide technical assistance (TA) and information to SEAs, LEAs, and other stakeholders in the preparation, delivery, and conversion of NIMAS file sets. However, the NIMAS TA Center targeted its efforts on addressing the need for AIM for children eligible under LOC regulations. A recent national survey of States found that the implementation of NIMAS is underway within States, but that States have encountered difficulty in developing and implementing unified distribution systems for AIM to serve the needs of all children with disabilities (Project Forum, 2007). SEAs and LEAs need sustained TA to provide high-quality materials in a timely manner and to improve their distribution systems because of the complexity of developing and implementing a unified distribution system that is responsive to IDEA requirements, the LOC criteria for eligibility, and section 121 of the Copyright Act.¹ State systems must address simultaneously the concerns of multiple participants in the system, including students and families, teachers, local schools, SEAs and LEAs, educational publishers, software developers, accessible media producers (AMPs), and distributors. Continued TA can help States develop efficient State distribution systems so that all children with disabilities receive AIM in a timely manner.

¹ The Chafee Amendment to Chapter 1 of Title 17, United States Code, adds section 121, establishing a limitation on the exclusive rights in copyrighted works. The Amendment allows authorized entities to reproduce or distribute copies or phonorecords of previously published nondramatic literary works in specialized formats exclusively for use by blind or other persons with disabilities.

Priority: The purpose of this priority is to fund a cooperative agreement to support the establishment and operation of a national center on AIM (Center). The Center will provide TA to SEAs, LEAs, and other stakeholders: (1) To improve the implementation of NIMAS; and (2) to develop and implement unified distribution systems in SEAs that will improve the timely delivery of high-quality AIM to all children with disabilities who need instructional materials in accessible formats.

To be considered for funding under this absolute priority, applicants must meet the application requirements contained in this priority. Any project funded under this absolute priority also must meet the programmatic and administrative requirements specified in the priority.

Application Requirements

An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one and one-half day kick-off meeting to be held in Washington, DC, within four weeks after receipt of the award, and an annual planning meeting held in Washington, DC, with the OSEP Project Officer during each subsequent year of the project period.

(2) A three-day Project Directors' Conference in Washington, DC, during each year of the project period.

(3) A four-day Technical Assistance and Dissemination Conference in Washington, DC, during each year of the project period.

(4) A one-day trip annually to attend Department briefings, Department-sponsored conferences, and other meetings, as requested by OSEP; and

(f) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities

To meet the requirements of this priority, the Center, at a minimum, must conduct the following activities:

Knowledge Development Activities

(a) Identify and document current approaches used by SEAs and LEAs, where appropriate, for developing and implementing efficient, unified distribution systems for the delivery of AIM to all children with disabilities who require instructional materials produced in accessible formats. This activity should occur during the first year of the project.

(b) Describe in detail the necessary components of efficient, unified distribution systems for the delivery of AIM in a timely manner. These components must include but are not limited to the following:

(1) Implementation of tracking systems that provide for digital rights management and measure timely delivery.

(2) Coordination with textbook adoption authorities and assistive technology projects within SEAs.

(3) Utilization of existing general education distribution systems, resource centers, and professional development systems. This knowledge development activity should occur during the first and second years of the project.

Technical Assistance and Dissemination Activities

(a) Work directly with SEAs to ensure that distribution systems are high-quality and deliver AIM in a timely manner to children with disabilities. To address this requirement the Center must—

(1) Work directly with a minimum of ten States to assist the SEAs in developing and implementing a plan to develop a unified distribution system or improve their existing distribution system for AIM;

(2) Develop and coordinate a national TA network comprised of a cadre of experts that the Center will use to provide TA to SEAs, LEAs, and other stakeholders to develop a unified distribution system or improve their existing State distribution systems for the delivery of AIM to children with disabilities; and

(3) Disseminate information to SEAs and LEAs about improving the timely delivery of AIM and increasing the quantity and improving the quality of commercially available AIM through their print instructional materials adoption processes, procurement contracts, or other practices or instruments used for purchase of print instructional materials (34 CFR 300.172(c)).

(4) Disseminate information to SEAs and LEAs on developing and implementing a unified distribution system that is responsive to IDEA requirements, the LOC criteria for eligibility, and section 121 of the Copyright Act.

(b) Provide a continuum of general TA and dissemination (TA&D) activities, (e.g., managing Web sites, listservs, and communities of practice, and holding training institutes) to assist SEAs—

(1) In developing and implementing quality indicators of their distribution systems that: Define high-quality AIM, describe the State definition of “timely manner” (34 CFR 300.172(a)(2)) and use that definition to assess whether children who need AIM receive these materials in a timely manner, identify elements that support an efficient flow of materials in the distribution system, and use effective protocols for digital rights management;

(2) In providing exemplars and other information to publishers, AMPs, and other stakeholders on the use of NIMAS (e.g., in support for Scalable Vector Graphics (SVG) and Mathematical Markup Language (MathML)). The following Web sites provide information on SVG and MathML: http://www.w3.org/Graphics/SVG and www.w3.org/Math; and

(3) To the maximum extent possible, in meeting their obligation to work collaboratively with the State agency responsible for assistive technology programs (34 CFR 300.172(d); 20 U.S.C. 1412(a)(23)(D)).

(c) Prepare and disseminate reports, documents, practice guides, and other materials on the implementation of State distribution systems for the delivery of AIM, the quality indicators related to an effective distribution system, the use of AIM, and related topics, as requested by OSEP, for specific audiences, including parents, teachers, textbook selection committees, and SEA administrators.

(d) Maintain a Web site that meets government or industry-recognized standards for accessibility and that links to the Web site operated by the Technical Assistance Coordination Center (TACC).

Leadership and Coordination Activities

(a) On an annual basis, compile and share data, in collaboration with other currently funded OSEP centers, on the implementation of NIMAS. To complete this activity, the Center must—

(1) Review and summarize NIMAS-related data from sources such as IDEA State Annual Performance Reports (APRs) and the updated State Performance Plans (SPPs). The following Web site provides more information on APRs and SPPs: http://www.rrfcnetwork.org/content/view/409/47/;

(2) Prepare a summary report annually on the status of the implementation of NIMAS and disseminate the findings of the summary report to OSEP, SEAs, LEAs, and other stakeholders; and

(3) Provide recommendations to OSEP on the most meaningful and useful ways to analyze and aggregate the data reported by States on IDEA Part B indicators relevant to NIMAS implementation at the national level. The following Web site provides more information on the SEAs' adoption of NIMAS: http://www.ed.gov/policy/speced/guid/idea/monitor/nimac.html.

(b) Establish and maintain an advisory committee to review the activities and outcomes of the Center and provide programmatic support and advice throughout the project period. At a minimum, the advisory committee must meet on an annual basis and must include: SEA and LEA personnel involved with the distribution of AIM, textbook adoption personnel, individuals with disabilities or parents of children with disabilities, OSEP-funded technology grants that relate to NIMAS and that improve results for children with disabilities, and other stakeholders and project directors of Department-funded centers that relate to the implementation of NIMAS requirements. The Center must submit the names of the proposed members of the advisory committee to OSEP for approval within eight weeks after receipt of the award.

(c) Communicate and collaborate with currently funded OSEP projects including NIMAC; Bookshare.org for Education; Recording for the Blind & Dyslexic; the NIMAS center (which OSEP intends to fund in FY 2009); and TACC. This collaboration could include the joint development of products, the coordination of TA services, and the planning and carrying out of TA meetings and events, including the convening of an annual meeting of these projects to ensure a well-designed national distribution system for SEAs and LEAs and to reduce duplication of effort and improve the delivery time for specialized formats.

(d) Communicate and collaborate with postsecondary groups to help facilitate coordinated efforts between the K-12 and postsecondary AIM distribution systems, as appropriate.

(e) Participate in, organize, or facilitate, as directed by OSEP, communities of practice (http://www.tacommunities.org/) that are aligned with the Center's objectives as a way to support discussions and collaboration among key stakeholders.

(f) Prior to developing any new product, whether paper or electronic, submit to the OSEP Project Officer and the Proposed Product Advisory Board at OSEP's TACC for approval, a proposal describing the content and purpose of the product.

(g) Coordinate with the National Dissemination Center for Individuals with Disabilities to develop an efficient and high-quality dissemination strategy that reaches broad audiences. The Center must report to the OSEP Project Officer the outcomes of these coordination efforts.

(h) Contribute, on an ongoing basis, updated information on the Center's services to OSEP's Technical Assistance and Dissemination Matrix (http://matrix.rrfcnetwork.org/), which provides current information on Department-funded TA services to a range of stakeholders.

(i) Conduct formative and summative evaluations of the Center that are aligned with the evaluation plan. These evaluations must examine the outcomes or impact of the Center's activities in order to assess the effectiveness of those activities. These evaluations will be reported to OSEP at least annually in the case of the formative evaluation and at the end of the project period for the summative evaluation.

(j) Maintain ongoing communication with the OSEP Project Officer through monthly phone conversations and e-mail communication. Fourth and Fifth Years of the Project: In deciding whether to continue funding the Center for the fourth and fifth years, the Secretary will consider the requirements of 34 CFR 75.253(a), and in addition—

(a) The recommendation of a review team consisting of experts selected by the Secretary. This review will be conducted during a one-day meeting in Washington, DC, that will be held during the last half of the second year of the project period.

(b) The timeliness and effectiveness with which all requirements of the negotiated cooperative agreement have been or are being met by the Center; and

(c) The quality, relevance, and usefulness of the Center's activities and products, and the degree to which the Center's activities and products have contributed to the development and improvement of State distribution systems for the efficient delivery of AIM for children with disabilities.

References:

Mueller, E. & Burdett, P. (2007). The National Instructional Materials Accessibility Standard (NIMAS): Current State Implementation. Project Forum: Alexandria, VA.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1474 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian Tribes.

Note: The regulations in 34 CFR part 86 apply to institutions of higher education (IHEs) only.

II. Award Information

Type of Award: Cooperative Agreement.

Estimated Available Funds: $1,000,000.

Contingent upon the availability of funds and the quality of applications, we may make additional awards in FY 2010 from the list of unfunded applicants from this competition.

Maximum Award: We will reject any application that proposes a budget exceeding $1,000,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; outlying areas; freely associated States; Indian Tribes or Tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this competition as follows: CFDA number 84.327T.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, abstracts, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: June 3, 2009.

Deadline for Transmittal of Applications: July 6, 2009.

Applications for grants under this competition may be submitted electronically using the Electronic Grant Application System (e-Application) accessible through the Department's e-Grants site, or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 1, 2009.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail

If you submit your application in paper format by mail (through the U.S. Postal Service or a commercial carrier), you must mail the original and two copies of your application, on or before the application deadline date, to the Department at the following address: U.S. Department of Education, Application Control Center, Attention: (CFDA Number 84.327T), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.327T), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 and are listed in the application package.

2. Review and Selection Process: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects provide high-quality products and services, are relevant to improving outcomes for children with disabilities, and contribute to improving outcomes for children with disabilities. We will collect data on these measures from the project funded under this competition.

The grantee will be required to report information on its project's performance in annual reports to the Department (34 CFR 75.590).

VII. Agency Contact

FOR FURTHER INFORMATION CONTACT: Michael Slade, U.S. Department of Education, 400 Maryland Avenue, SW., room 4175, Potomac Center Plaza (PCP), Washington, DC 20202-2550. Telephone: (202) 245-7527.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services to perform the functions of the Assistant Secretary for Special Education and Rehabilitative Services.

Dated: May 28, 2009.
Andrew J. Pepin,
Executive Administrator for Special Education and Rehabilitative Services.

[FR Doc. E9-12903 Filed 6-2-09; 8:45 am]

BILLING CODE 4000-01-P